INTERNATIONAL TRADE COMMISSION

[Investigation No. 701-TA-409 (Final)]

Low Enriched Uranium From France

AGENCY: United States International Trade Commission.

ACTION: Termination of five-year review.

SUMMARY: On May 25, 2007, the Department of Commerce published notice in the Federal Register of an amended final negative determination pursuant to final court decision, rescission of administrative review, and revocation of the countervailing duty order in connection with the subject investigation (72 FR 29301). Accordingly, pursuant to section 207.40(a) of the Commission's Rules of Practice and Procedure (19 CFR 207.40(a)), the five-year review concerning the countervailing duty order on imports of low enriched uranium from France (investigation No. 701-TA-409 (Review)) is terminated.

DATES: Effective Date: May 25, 2007.

FOR FURTHER INFORMATION CONTACT: Nathanael Comly (202-205-3174), Office of Investigations, U.S. International Trade Commission, 500 E Street, SW., Washington, DC 20436. Hearing-impaired individuals are advised that information on this matter can be obtained by contacting the Commission's TDD terminal on 202-205-1810. Persons with mobility impairments who will need special assistance in gaining access to the Commission should contact the Office of the Secretary at 202-205-2000. General information concerning the Commission may also be obtained by accessing its Internet server (http://www.usitc.gov). The public record for this investigation may be viewed on the Commission's electronic docket (EDIS) at http://edis.usitc.gov.

Authority: This investigation is being terminated under authority of title VII of the Tariff Act of 1930; this notice is published pursuant to section 201.10 of the Commission's rules (19 CFR 201.10).

Issued: May 31, 2007.
By order of the Commission.
Marilyn R. Abbott,
Secretary to the Commission.

[FR Doc. E7-10950 Filed 6-6-07; 8:45 am]

BILLING CODE 7020-02-P